DEPARTMENT OF COMMERCE

National Oceanic and Atmospheric Administration

[RTID 0648-XR037]

Marine Mammals; File No. 23220

AGENCY: National Marine Fisheries Service (NMFS), National Oceanic and Atmospheric Administration (NOAA), Commerce.

ACTION: Notice; receipt of application.

SUMMARY: Notice is hereby given that Andrew Trites, Ph.D., University of British Columbia, Room 247, Aquatic Ecosystems Research Laboratory, 2202 Main Mall, Vancouver, BC, Canada, has applied in due form for a permit to conduct research on marine mammals.

DATES: Written, telefaxed, or email comments must be received on or before March 9, 2020.

ADDRESSES: The application and related documents are available for review by selecting “Records Open for Public Comment” from the “Features” box on the Applications and Permits for Protected Species (APPS) home page, https://apps.nmfs.noaa.gov, and then selecting File No. 23220 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Shasta McClenahan or Courtney Smith, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant requests a five-year permit to study endangered Southern Resident killer whales (SRKW; Orcinus orca) in Washington State inland waters to identify important characteristics of prey fields (primarily chinook salmon, Oncorhynchus tshawytscha). Up to 714 takes of SRKW may occur annually by Level B harassment during marine vessel and aerial (unmanned aircraft system) based-research activities including photo-identification and other photography, video recording, acoustic exposure by echosounders for prey mapping, behavioral observations, focal follows, and tracking. Non-target species that may be taken during research include Transient killer whales, humpback (Megaptera novaeangliae) and minke (Balaenoptera acutorostrata) whales, Pacific white-sided dolphins (Lagenorhynchus obliquidens), Dall's (Phocoenoides dalli) and harbor (Phocoena phocoena) porpoise, California (Zalophus californianus) and Steller (Eumetopias jubatus) sea lions, and harbor seals (Phoca vitulina).

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: February 3, 2020.
Julia Marie Harrison,
Chief, Permits and Conservation Division, Office of Protected Resources, National Marine Fisheries Service.

[FR Doc. 2020-02410 Filed 2-6-20; 8:45 am]

BILLING CODE 3510-22-P